DEPARTMENT OF THE INTERIOR

Fish and Wildlife Service

[FWS-R6-ES-2022-N063 FXES11130600000-234-FF06E00000]

Endangered and Threatened Wildlife and Plants; Initiation of 5-Year Status Reviews of 27 Listed Species in the Mountain-Prairie Region

AGENCY: Fish and Wildlife Service, Interior.

ACTION: Notice of initiation of reviews; request for information.

SUMMARY: We, the U.S. Fish and Wildlife Service, are initiating 5-year status reviews of 27 species under the Endangered Species Act of 1973, as amended. A 5-year status review is based on the best scientific and commercial data available at the time of the review; therefore, we are requesting submission of any new information on these species that has become available since the last review of the species.

DATES: To ensure consideration in our reviews, we are requesting submission of new information no later than May 12, 2023. However, we will continue to accept new information about any listed species at any time.

ADDRESSES: For instructions on how to submit information for each species, see the table in the SUPPLEMENTARY INFORMATION section.

FOR FURTHER INFORMATION CONTACT: To request information, contact the appropriate person in the table in the SUPPLEMENTARY INFORMATION section. For general information, contact Karen Newlon, Regional Recovery Project Manager, by phone at 406-430-9010 or by email at karen_newlon@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We are initiating 5-year status reviews under the Endangered Species Act of 1973, as amended (Act; 16 U.S.C. 1531 et seq.) for 15 plants and 12 animals in the Mountain-Prairie Region. A 5-year status review is based on the best scientific and commercial data available at the time of the review; therefore, we are requesting submission of any such information that has become available since the last review for the species.

Why do we conduct 5-year status reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review. For additional information about 5-year status reviews, go to https://www.fws.gov/project/five-year-status-reviews.

What information do we consider in our review?

A 5-year status review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year status review and will also be useful in evaluating the ongoing recovery programs for the species.

Which species are under review?

This notice announces our active review of the 27 species listed in the table below.

Common name | Scientific name | Listing status | Historical range | Final listing rule (Federal Register citation and publication date) | Contact person, phone, email | Contact person's U.S. mail address
Pawnee montane skipper | Hesperia leonardus montana | Threatened | Colorado | 52 FR 36176; 9/25/1987 | Liisa Niva, Eastern Colorado Supervisor, 303-236-4779; liisa_niva@fws.gov | Ecological Services, Colorado Field Office, 134 Union Blvd., Suite 670, Lakewood, CO 80228.
Preble's meadow jumping mouse | Zapus hudsonius preblei | Threatened | Colorado, Wyoming | 63 FR 26517; 5/13/1998 | Liisa Niva (information above) | Ecological Services, Colorado Field Office (information above).
Dudley Bluffs bladderpod | Lesquerella congesta | Threatened | Colorado | 55 FR 4152; 2/6/1990 | Creed Clayton, Acting Western Colorado Supervisor, 970-628-7187; creed_clayton@fws.gov | Ecological Services, Colorado Field Office, 445 W Gunnison Ave., #240, Grand Junction, CO 81501-5711.
Dudley Bluffs twinpod | Physaria obcordata | Threatened | Colorado | 55 FR 4152; 2/6/1990 | Creed Clayton (information above). | Ecological Services, Colorado Field Office (information above).
Parachute beardtongue | Penstemon debilis | Threatened | Colorado | 76 FR 45054; 8/26/2011 | Creed Clayton (information above) | Ecological Services, Colorado Field Office (information above).
Gunnison sage-grouse | Centrocercus minimus | Threatened | Colorado, Utah | 79 FR 69191; 11/20/2014 | Creed Clayton (information above) | Ecological Services, Colorado Field Office (information above).
Penland beardtongue | Penstemon penlandii | Endangered | Colorado | 54 FR 29658; 7/13/1989 | Creed Clayton (information above) | Ecological Services, Colorado Field Office (information above).
Osterhout milkvetch | Astragalus osterhoutii | Endangered | Colorado | 54 FR 29658; 7/13/1989 | Creed Clayton (information above) | Ecological Services, Colorado Field Office (information above).
Colorado pikeminnow | Ptychocheilus lucius | Endangered | Arizona, California, Colorado, New Mexico, Utah, Wyoming | 32 FR 4001; 3/11/1967 | Julie Stahli, Director, Upper Colorado River Recovery Program, 303-236-4573, julie_stahli@fws.gov | Upper Colorado Endangered Fish River Recovery Program, 44 Union Blvd., #120, Lakewood, CO 80228-1807.
Bonytail | Gila elegans | Endangered | Arizona, California, Colorado, Nevada, Utah | 45 FR 27710; 4/23/1980 | Julie Stahli (information above) | Upper Colorado Endangered Fish River Recovery Program (information above).
Neosho madtom | Noturus placidus | Threatened | Kansas, Missouri, Oklahoma | 55 FR 21148; 5/22/1990 | Jason Luginbill, Project Leader, 785-539-3474, jason_luginbill@fws.gov | Ecological Services, Kansas Field Office, 2609 Anderson Ave., Manhattan, KS 66502.
Meltwater lednian stonefly | Lednia tumana | Threatened | Montana | 84 FR 64210; 11/21/2019 | Adam Zerrenner, Project Leader, 406-430-9003; adam_zerrenner@fws.gov | Ecological Services, Montana Field Office, 585 Shephard Way, Suite 1, Helena, MT 59601.
Western glacier stonefly | Zapada glacier | Threatened | Montana, Wyoming | 84 FR 64210; 11/21/2019 | Adam Zerrenner (information above) | Ecological Services, Montana Field Office (information above).
Black-footed ferret | Mustela nigripes | Endangered | Arizona, Colorado, Kansas, Montana, Nebraska, New Mexico, North Dakota, South Dakota, Texas, Utah, Wyoming | 32 FR 4001; 03/11/1967 | Pete Gober, Project Leader, 720-626-5260; pete_gober@fws.gov | National Black-footed Ferret Conservation Center, P.O. Box 190, Wellington, CO 80459.
Desert yellowhead | Yermo xanthocephalus | Threatened | Wyoming | 67 FR 11442; 3/14/2002 | Tyler Abbott, Project Leader, 307-757-3707; tyler_abbott@fws.gov | Ecological Services, Wyoming Field Office, 334 Parsley Blvd., Cheyenne, WY 82007.
Wyoming toad | Anaxyrus baxteri | Endangered | Wyoming | 49 FR 1992; 1/17/1984 | Tyler Abbott (information above) | Ecological Services, Wyoming Field Office (information above).
Pariette cactus | Sclerocactus brevispinus | Threatened | Utah | 74 FR 47112; 9/15/2009 | George Weekley, Acting Project Leader, 385-285-7929; george_weekley@fws.gov | Ecological Services, Utah Field Office, 2369 West Orton Circle, Suite 50, West Valley City, UT 84119.
Uinta Basin hookless cactus | Sclerocactus wetlandicus | Threatened | Utah | 74 FR 47112; 9/15/2009 | George Weekley (information above) | Ecological Services, Utah Field Office (information above).
San Rafael cactus | Pediocactus despainii | Endangered | Utah | 52 FR 34914; 9/16/1987 | George Weekley (information above) | Ecological Services, Utah Field Office (information above).
Winkler cactus | Pediocactus winkleri | Threatened | Utah | 63 FR 44587; 8/20/1998 | George Weekley (information above) | Ecological Services, Utah Field Office (information above).
Last Chance townsendia | Townsendia aprica | Threatened | Utah | 50 FR 33734; 8/21/1985 | George Weekley (information above) | Ecological Services, Utah Field Office (information above).
Clay reed-mustard | Schoenocrambe argillacea | Threatened | Utah | 57 FR 1398; 1/14/1992 | George Weekley (information above) | Ecological Services, Utah Field Office (information above).
Shrubby reed-mustard | Schoenocrambe suffrutescens | Endangered | Utah | 52 FR 37416; 10/6/1987 | George Weekley (information above) | Ecological Services, Utah Field Office (information above).
Clay phacelia | Phacelia argillacea | Endangered | Utah | 43 FR 44810; 9/28/1978 | George Weekley (information above) | Ecological Services, Utah Field Office (information above).
Autumn buttercup | Ranunculus aestivalis (=acriformis) | Endangered | Utah | 54 FR 30550; 7/21/1989 | George Weekley (information above) | Ecological Services, Utah Field Office (information above).
Virgin River chub | Gila seminuda (=robusta) | Endangered | Arizona, Nevada, Utah | 54 FR 35305; 8/24/1989 | George Weekley (information above) | Ecological Services, Utah Field Office (information above).
Woundfin | Plagopterus argentissimus | Endangered | Arizona, Nevada, Utah | 35 FR 16047; 10/13/1970 | George Weekley (information above) | Ecological Services, Utah Field Office (information above).

Request for New Information

To ensure that a 5-year status review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals in the United States who are deaf, deafblind, hard of hearing, or have a speech disability may dial 711 (TTY, TDD, or TeleBraille) to access telecommunications relay services. Individuals outside the United States should use the relay services offered within their country to make international calls to the point-of-contact in the United States.

Public Availability of Submissions

Before including your address, phone number, email address, or other personal identifying information in your comment, you should be aware that your entire comment—including your personal identifying information—may be made publicly available at any time. While you can ask us in your comment to withhold your personal identifying information from public review, we cannot guarantee that we will be able to do so.

Contents of Submissions

Please make your comments as specific as possible. Please confine your comments to issues for which we seek comments in this notice and explain the basis for your comments. Include sufficient information with your comments to allow us to authenticate any scientific or commercial data you include.

The comments and recommendations that will be most useful and likely to be relevant to agency decisions are: (1) Those supported by quantitative information or studies; and (2) Those that include citations to, and analyses of, the applicable laws and regulations.

Authority

We publish this notice under the authority of the Endangered Species Act of 1973, as amended (16 U.S.C. 1531 et seq.).

Anna Muñoz,
Deputy Regional Director, Lakewood, Colorado.

[FR Doc. 2023-05064 Filed 3-10-23; 8:45 am]

BILLING CODE 4333-15-P